DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having an effect in order to qualify or remain qualified for participation in the Federal Emergency Management Agency's (FEMA's) National Flood Insurance Program (NFIP).

DATES: The date of September 5, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Kristin E. Fontenot,
Assistant Administrator, Risk Analysis, Planning & Information Directorate, Federal Emergency Management Agency, Department of Homeland Security.

Community | Community map repository address
Deuel County, Nebraska and Incorporated Areas
Docket No.: FEMA-B-2423
City of Chappell | City Hall, 757 2nd Street, Chappell, NE 69129.
Unincorporated Areas of Deuel County | Deuel County Clerk's Office, 718 3rd Street, Chappell, NE 69129.
Village of Big Springs | Village Office, 403 Pine Street, Big Springs, NE 69122.
Wayne County, Nebraska and Incorporated Areas
Docket No.: FEMA-B-2423
City of Wayne | City Hall, 306 Pearl Street, Wayne, NE 68787.
Unincorporated Areas of Wayne County | Wayne County Courthouse, 510 Pearl Street, Wayne, NE 68787.
Village of Carroll | Community Hall, 502 Main Street, Carroll, NE 68723.
Village of Hoskins | Community Center, 101 South Main Street, Hoskins, NE 68740.
Village of Sholes | Village of Sholes Clerk's Office, 56187 Sholes Terrace, Randolph, NE 68771.
Village of Winside | Village Clerk's Office, 424 Main Street, Winside, NE 68790.
Cass County, North Dakota (All Jurisdictions)
Docket No.: FEMA-B-1915 and B-2388
City of Amenia | Cass County Planning Office, 1201 Main Avenue W, West Fargo, ND 58078.
City of Argusville | Argusville Community Center, 107 Northern Drive, Argusville, ND 58005.
City of Arthur | Community Hall, 340 Main Street, Arthur, ND 58006.
City of Casselton | City Hall, 702 1st Street N, Casselton, ND 58012.
City of Davenport | City Hall, 115 4th Avenue, Davenport, ND 58021.
City of Fargo | City Hall, 225 4th Street N, Fargo, ND 58102.
City of Harwood | City Office, 108 Main Street, Harwood, ND 58042.
City of Horace | City Hall, 215 Park Drive E, Horace, ND 58047.
City of Hunter | Cass County Planning Office, 1201 Main Avenue W, West Fargo, ND 58078.
City of Kindred | City Hall, 31 5th Avenue N, Kindred, ND 58051.
City of Mapleton | City Hall, 651 2nd Street, Mapleton, ND 58059.
City of Reiles Acres | Cass County Planning Office, 1201 Main Avenue W, West Fargo, ND 58078.
City of West Fargo | City Hall, 800 4th Avenue E, Suite 1, West Fargo, ND 58078.
Township of Addison | Cass County Planning Office, 1201 Main Avenue W, West Fargo, ND 58078.
Township of Amenia | Cass County Planning Office, 1201 Main Avenue W, West Fargo, ND 58078.
Township of Arthur | Cass County Planning Office, 1201 Main Avenue W, West Fargo, ND 58078.
Township of Berlin | Cass County Planning Office, 1201 Main Avenue W, West Fargo, ND 58078.
Township of Casselton | Cass County Planning Office, 1201 Main Avenue W, West Fargo, ND 58078.
Township of Davenport | Residence, 3514 41st Avenue S, Fargo, ND 58014.
Township of Durbin | Cass County Planning Office, 1201 Main Avenue W, West Fargo, ND 58078.
Township of Everest | Cass County Planning Office, 1201 Main Avenue W, West Fargo, ND 58078.
Township of Gardner | Cass County Planning Office, 1201 Main Avenue W, West Fargo, ND 58078.
Township of Harmony | Cass County Planning Office, 1201 Main Avenue W, West Fargo, ND 58078.
Township of Harwood | Clerk, Zoning and Administrator's Office, 126 Brooktree Park, Harwood, ND 58042.
Township of Highland | Cass County Planning Office, 1201 Main Avenue W, West Fargo, ND 58078.
Township of Hunter | Cass County Planning Office, 1201 Main Avenue W, West Fargo, ND 58078.
Township of Maple River | Cass County Planning Office, 1201 Main Avenue W, West Fargo, ND 58078.
Township of Mapleton | Cass County Planning Office, 1201 Main Avenue W, West Fargo, ND 58078.
Township of Noble | Cass County Planning Office, 1201 Main Avenue W, West Fargo, ND 58078.
Township of Normanna | Cass County Planning Office, 1201 Main Avenue W, West Fargo, ND 58078.
Township of Pleasant | Cass County Planning Office, 1201 Main Avenue W, West Fargo, ND 58078.
Township of Raymond | Cass County Planning Office, 1201 Main Avenue W, West Fargo, ND 58078.
Township of Reed | Reed Township Hall, 1851 County Road 17 N, West Fargo, ND 58078.
Township of Rush River | Cass County Planning Office, 1201 Main Avenue W, West Fargo, ND 58078.
Township of Walburg | Cass County Planning Office, 1201 Main Avenue W, West Fargo, ND 58078.
Township of Warren | Warren Township Chairman's Office, 9605 81st Street S, Horace, ND 58047.
Township of Watson | Cass County Planning Office, 1201 Main Avenue W, West Fargo, ND 58078.
Township of Wiser | Cass County Planning Office, 1201 Main Avenue W, West Fargo, ND 58078.

[FR Doc. 2025-06600 Filed 4-16-25; 8:45 am]

BILLING CODE 9110-12-P